DEPARTMENT OF THE INTERIOR

Bureau of Indian Affairs

[178A2100DD/AAKC001030/A0A501010.999900 253G]

Notice of Deadline for Submitting Completed Applications To Begin Participation in the Tribal Self-Governance Program in Fiscal Year 2018 or Calendar Year 2018

AGENCY: Bureau of Indian Affairs, Interior.

ACTION: Notice.

SUMMARY: In this notice, the Office of Self-Governance (OSG) establishes a deadline of March 1, 2017, for Indian Tribes and consortia to submit completed applications to begin participation in the tribal self-governance program in fiscal year 2018 or calendar year 2018.

DATES: Completed application packages must be received by the Director, Office of Self-Governance, by March 1, 2017, at the address provided in the ADDRESSES section of this notice.

ADDRESSES: Application packages for inclusion in the applicant pool should be sent to Ms. Sharee M. Freeman, Director, Office of Self-Governance, Department of the Interior, Mail Stop 355-G-SIB, 1951 Constitution Avenue NW., Washington, DC 20240.

FOR FURTHER INFORMATION CONTACT: Dr. Kenneth D. Reinfeld, Office of Self-Governance, Telephone (703) 390-6551.

SUPPLEMENTARY INFORMATION: Under the Tribal Self-Governance Act of 1994 (Public Law 103-413), as amended, and section 1000.15(a) of title 25 of the Code of Federal Regulations, the Director, Office of Self-Governance may select up to 50 additional Tribes and consortia per year to participate in the Tribal self-governance program and negotiate and enter into a written funding agreement with each participating Tribe. The Act mandates that the Secretary of the Interior submit copies of the funding agreements at least 90 days before the proposed effective date to the appropriate committees of the Congress and to each Tribe that is served by the Bureau of Indian Affairs agency that is serving the Tribe that is a party to the funding agreement. Initial negotiations with a Tribe or consortium located in a region and/or agency which has not previously been involved with self-governance negotiations will take approximately two months from start to finish. Agreements for an October 1 to September 30 funding year need to be signed and submitted by July 1. Agreements for a January 1 to December 31 funding year need to be signed and submitted by October 1.

Purpose of Notice

The regulations at 25 CFR 1000.10 to 1000.31 will govern the application and selection process for Tribes or consortia to begin their participation in the tribal self-governance program in fiscal year 2018 and calendar year 2018. Applicants should be guided by the requirements in these subparts in preparing their applications. Copies of these subparts may be obtained from the person identified in the FOR FURTHER INFORMATION section of this notice.

Tribes and consortia wishing to be considered for participation in the tribal self-governance program in fiscal year 2018 or calendar year 2018 must respond to this notice, except for those Tribes and consortia which are: (1) Currently involved in negotiations with the Department; or (2) one of the 118 Tribal entities with signed agreements.

Information Collection

This information collection is authorized by OMB Control Number 1076-0143, Tribal Self-Governance Program, which expires December 31, 2019.

Dated: December 13, 2016.
Lawrence S. Roberts,
Principal Deputy Assistant Secretary—Indian Affairs.

[FR Doc. 2016-30829 Filed 12-21-16; 8:45 am]

BILLING CODE 4337-15-P